NUCLEAR REGULATORY COMMISSION

[Docket Nos. 50-280 and 50-281; Docket No. 72-2]

Virginia Electric and Power Company (VEPCO); Surry Power Station, Units 1 and 2; Surry Independent Spent Fuel Storage Installation; Notice of Consideration of Approval of Transfer; of Facility Operating and Materials Licenses and Conforming Amendments, and Opportunity for a Hearing

The U.S. Nuclear Regulatory Commission (the Commission) is considering the issuance of an order under 10 CFR 50.80 and 72.50 approving the transfer of Facility Operating Licenses Nos. DPR-32 and DPR-37 for the Surry Power Station Units 1 and 2; and Special Nuclear Material License No. SNM-2501 for the Surry Independent Spent Fuel Storage Installation (ISFSI) currently held by VEPCO, as owner and licensed operator. The transfer would be to Dominion Generation Corporation (Dominion Generation), which, following certain steps occurring essentially contemporaneously, will be a subsidiary of Dominion Energy Holdings, Inc., which in turn will be a holding company subsidiary of Dominion Resources, Inc. (DRI), holding all of DRI's generation assets. DRI is presently the parent of VEPCO. The Commission is further considering amending the licenses for administrative purposes to reflect the proposed transfer.

According to applications for approval filed by VEPCO, Dominion Generation would assume title to the facility and ISFSI following approval of the proposed license transfers, and would be responsible for the operation, maintenance, and eventual decommissioning of the Surry Power Station Units 1 and 2 and ISFSI. No physical changes to the facility or ISFSI or operational changes are being proposed in the application.

The proposed amendments would replace references to VEPCO in the licenses with references to Dominion Generation to reflect the proposed transfer.

Pursuant to 10 CFR 50.80 and 72.50, no license shall be transferred, directly or indirectly, through transfer of control of the license, unless the Commission gives its consent in writing. The Commission will approve an application for the transfer of a license if the Commission determines that the proposed transferee is qualified to hold the license, and that transfer is otherwise consistent with applicable provisions of law, regulations, and orders issued by the Commission pursuant thereto.

Before issuance of the proposed conforming license amendments, the Commission will have made findings required by the Atomic Energy Act of 1954, as amended (the Act), and the Commission's regulations.

As provided in 10 CFR 2.1315, unless otherwise determined by the Commission with regard to a specific application, the Commission has determined that any amendment to the license of a utilization facility or the license of an ISFSI that does no more than conform the license to reflect the transfer action involves, respectively, no significant hazards consideration or no genuine issue as to whether the health and safety of the public will be significantly affected. No contrary determination has been made with respect to these specific license amendment applications. In light of the generic determination reflected in 10 CFR 2.1315, no public comments with respect to significant hazards considerations are being solicited, notwithstanding the general comment procedures contained in 10 CFR 50.91.

The filing of requests for hearing and petitions for leave to intervene, and written comments with regard to the license transfer applications, are discussed below.

By October 31, 2001, any person whose interest may be affected by the Commission's action on the applications may request a hearing and, if not the applicant, may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon David Lewis, Esq., counsel for VEPCO and Dominion Generation at Shaw Pittman, 2300 N Street, NW., Washington, DC 20037, Telephone 202-663-8474, fax 202-663-8007, e-mail david_lewis@shawpittman.com; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A notice granting a hearing will be published in the Federal Register and served on the parties to the hearing.

As an alternative to requests for hearing and petitions to intervene, by November 13, 2001, persons may submit written comments regarding the license transfer applications, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of this Federal Register notice.

For further details with respect to this action, see the applications dated June 7, 2001, and July 2, 2001, available for public inspection at the Commission's Public Document Room, located at One White Flint North, 11555 Rockville Pike (first floor), Rockville, Maryland. Publicly available records will be accessible electronically from the Agencywide Documents Access and Management Systems (ADAMS) Public Electronic Reading Room on the internet at the NRC Web site, http://www.nrc.gov/ADAMS/index.html. If you do not have access to ADAMS or if there are problems in accessing the documents located in ADAMS, contact the NRC Public Document Room (PDR) Reference staff at 1-800-397-4209, 301-415-4737 or by e-mail to pdr@nrc.gov.

Dated at Rockville, Maryland this 4th day of October 2001.
For the Nuclear Regulatory Commission.
Gordon E. Edison, Sr.,
Project Manager, Project Directorate II, Section 1, Division of Licensing Project Manager, Office of Nuclear Reactor Regulation.

[FR Doc. 01-25567 Filed 10-10-01; 8:45 am]

BILLING CODE 7590-01-P